DEPARTMENT OF THE INTERIOR

Fish and Wildlife Service

Endangered Species Recovery Permit Application

AGENCY: Fish and Wildlife Service, Interior.

ACTION: Notice of receipt of a permit application.

SUMMARY: The following applicant has applied for a scientific research permit to conduct certain activities with endangered species pursuant to section 10(a)(1)(A) of the Endangered Species Act (16 U.S.C. 1531 et seq.). The U.S. Fish and Wildlife Service (“we”) solicits review and comment from local, State, and Federal agencies, and the public on the following permit request.

DATES: Comments on this permit application must be received on or before October 3, 2005.

ADDRESSES: Written data or comments should be submitted to the U.S. Fish and Wildlife Service, Chief, Endangered Species, Ecological Services, 911 NE. 11th Avenue, Portland, Oregon 97232-4181 (telephone: 503-231-2063; fax: 503-231-6243). Please refer to the permit number for the application when submitting comments. All comments received, including names and addresses, will become part of the official administrative record and may be made available to the public.

FOR FURTHER INFORMATION CONTACT: Documents and other information submitted with this application are available for review, subject to the requirements of the Privacy Act and Freedom of Information Act, by any party who submits a written request for a copy of such documents to the address above. Please refer to the permit number for the application when requesting copies of documents.

SUPPLEMENTARY INFORMATION:

Permit No. TE-108507

Applicant: Manager, California/Nevada Operations Office, U.S. Fish and Wildlife Service, Sacramento, California.

The applicant requests a permit to take the following species: the short-tailed albatross (Phoebastria (=Diomedea) albatrus), Mount Hermon June beetle (Polyphylla barbata), Behren's silverspot butterfly (Speyeria zerene behrensii), callippe silverspot butterfly (Speyeria callippe callippe), El Segundo blue butterfly (Euphilotes battoides allyni), Lange's metalmark butterfly (Apodemia mormo langei), lotis blue butterfly (Lycaeides argyrognomon lotis), mission blue butterfly (Icaricia icarioides missionensis), Myrtle's silverspot butterfly (Speyeria zerene myrtleae), Palos Verdes blue butterfly (Glaucopsyche lygdamus palosverdesensis), Quino checkerspot butterfly (Euphydryas editha quino), San Bruno elfin butterfly (Callophrys mossii bayensis), Smith's blue butterfly (Euphilotes enoptes smithi), bonytail chub (Gila elegans), Mohave tui chub (Gila bicolor mohavensis), Owens tui chub (Gila bicolor snyderi), Pahranagat roundtail chub (Gila robusta jordani), Cui-ui (Chasmistes cujus), Ash Meadows speckled dace (Rhinichthys osculus nevadensis), Clover Valley dace speckled (Rhinichthys osculus oligoporus), Independence Valley speckled dace (Rhinichthys osculus lethoporus), Moapa dace (Moapa coriacea), California condor (Gymnogyps californianus), Shasta crayfish (Pacifastacus fortis), Conservancy fairy shrimp (Branchinecta conservatio), longhorn fairy shrimp (Branchinecta longiantenna), Riverside fairy shrimp (Streptocephalus woottoni), San Diego fairy shrimp (Branchinecta sandiegonensis), Delhi Sands flower-loving fly (Rhaphiomidas terminatus abdominalis), southwestern willow flycatcher (Empidonax traillii extimus), San Joaquin kit fox (Vulpes macrotis mutica), San Miguel Island fox (Urocyon littoralis littoralis), Santa Catalina Island fox (Urocyon littoralis catalinae), Santa Cruz Island fox (Urocyon littoralis santacruzae), Santa Rosa Island fox (Urocyon littoralis santarosae), mountain yellow-legged frog southern California distinct population segment (Rana muscosa), tidewater goby (Eucyclogobius newberryi), Zayante band-winged grasshopper (Trimerotropis infantilis), Fresno kangaroo rat (Dipodomys nitratoides exilis), giant kangaroo rat (Dipodomys ingens), Morro Bay kangaroo rat (Dipodomys heermanni morroensis), San Bernardino Merriam's kangaroo rat, (Dipodomys merriami parvus), Stephens' kangaroo rat [Dipodomys stephensi (incl. D. cascus)], Tipton kangaroo rat (Dipodomys nitratoides nitratoides), blunt-nosed leopard lizard (Gambelia silus), Point Arena mountain beaver (Aplodontia rufa nigra), Pacific pocket mouse (Perognathus longimembris pacificus), salt marsh harvest mouse (Reithrodontomys raviventris), marbled murrelet (Brachyramphus marmoratus marmoratus), brown pelican (Pelecanus occidentalis), Pikeminnow (=squawfish) (Ptychocheilus lucius), Pahrump poolfish (Empetrichthys latos), Ash Meadows Amargosa pupfish (Cyprinodon nevadensis mionectes), desert pupfish (Cyprinodon macularius), Devils Hole pupfish (Cyprinodon diabolis), Warm Springs pupfish (Cyprinodon nevadensis pectoralis), Owens pupfish (Cyprinodon radiosus), riparian brush rabbit (Sylvilagus bachmani riparius), California clapper rail (Rallus longirostris obsoletus), light-footed clapper rail (Rallus longirostris levipes), Yuma clapper rail (Rallus longirostris yumanensis), desert slender salamander (Batrachoseps aridus), Santa Cruz long-toed salamander (Ambystoma macrodactylum croceum), green sea turtle (Chelonia mydas), leatherback sea turtle (Dermochelys coriacea), loggerhead sea turtle (Caretta caretta), Peninsular ranges distinct population segment of the bighorn sheep (Ovis canadensis), Sierra Nevada distinct population segment of the bighorn sheep (Ovis canadensis californiana), Buena Vista Lake ornate shrew (Sorex ornatus relictus), San Clemente loggerhead shrike (Lanius ludovicianus mearnsi), California freshwater shrimp (Syncaris pacifica), Carson wandering skipper (Pseudocopaeodes eunus obscurus), Laguna Mountains skipper (Pyrgus ruralis lagunae), Morro shoulderband snail (=Banded dune) (Helminthoglypta walkeriana), San Francisco garter snake (Thamnophis sirtalis tetrataenia), White River spinedace (Lepidomeda albivallis), Hiko White River springfish (Crenichthys baileyi grandis), White River springfish (Crenichthys baileyi baileyi), unarmored threespine stickleback (Gasterosteus aculeatus williamsoni), Lost River sucker (Deltistes luxatus), Modoc sucker (Catostomus microps), razorback sucker (Xyrauchen texanus), shortnose sucker (Chasmistes brevirostris), vernal pool tadpole shrimp (Lepidurus packardi), California least tern (Sterna antillarum browni), Ohlone tiger beetle (Cicindela ohlone), arroyo toad (=arroyo southwestern) [Bufo californicus (=microscaphus)], woundfin (Plagopterus argentissimus), least Bell's vireo (Vireo bellii pusillus), Amargosa vole (Microtus californicus scirpensis), and the riparian woodrat (=San Joaquin Valley) (Neotoma fuscipes riparia); and to remove/reduce to possession the following species: Acanthomintha ilicifolia (San Diego thornmint), Allium munzii (Munz's onion), Alopecurus aequalis var. sonomensis (Sonoma alopecurus), Ambrosia pumila (San Diego ambrosia), Amsinckia grandiflora (large-flowered fiddleneck), Arabis hoffmannii (Hoffmann's rock-cress), Arabis mcdonaldiana (McDonald's rock-cress), Arctostaphylos confertiflora (Santa Rosa Island manzanita), Arctostaphylos glandulosa ssp. crassifolia (Del Mar manzanita), Arctostaphylos hookeri var. ravenii (Presidio manzanita), Arenaria paludicola (Marsh sandwort), Astragalus albens (Cushenbury milk-vetch), Astragalus brauntonii (Braunton's milk-vetch), Astragalus clarianus (Clara Hunt's milk-vetch), Astragalus jaegerianus (Lane Mountain milk-vetch), Astragalus lentiginosus var. coachellae (Coachella Valley milk-vetch), Astragalus pycnostachyus var. lanosissimus (Ventura Marsh milk-vetch), Astragalus tener var. titi (coastal dunes milk-vetch), Astragalus tricarinatus (triple-ribbed milk-vetch), Atriplex coronata var. notatior (San Jacinto Valley crownscale), Berberis nevinii (Nevin's barberry), Berberis pinnata ssp. insularis (island barberry), Blennosperma bakeri (Sonoma sunshine), Calystegia stebbinsii (Stebbins' morning-glory), Carex albida (white sedge), Castilleja affinis ssp. neglecta (Tiburon paintbrush), Castilleja grisea (San Clemente Island Indian paintbrush), Castilleja mollis (soft-leaved paintbrush), Caulanthus californicus (California jewelflower), Ceanothus ferrisae (coyote ceanothus), Ceanothus roderickii (Pine Hill ceanothus), Cercocarpus traskiae (Catalina Island mountain-mahogany), Chorizanthe howellii (Howell's spineflower), Chorizanthe orcuttiana (Orcutt's spineflower), Chorizanthe pungens var. hartwegiana (Ben Lomond spineflower), Chorizanthe robusta (incl. vars. robusta and hartwegii) [Robust spineflower (incl. Scotts Valley)], Chorizanthe valida (Sonoma spineflower), Cirsium fontinale var. fontinale (fountain thistle), Cirsium fontinale var. obispoense (Chorro Creek bog thistle), Cirsium hydrophilum var. hydrophilum (Suisun thistle), Cirsium loncholepis (La Graciosa thistle), Clarkia franciscana (Presidio clarkia), Clarkia imbricata (Vine Hill clarkia), Clarkia speciosa ssp. immaculata (Pismo clarkia), Cordylanthus maritimus ssp. maritimus (salt marsh bird's-beak), Cordylanthus mollis ssp. mollis (soft bird's-beak), Cordylanthus palmatus (palmate-bracted bird's beak), Cordylanthus tenuis ssp. capillaris (Pennell's bird's-beak), Cupressus abramsiana (Santa Cruz cypress), Deinandra increscens ssp. villosa (Gaviota tarplant), Delphinium bakeri (Baker's larkspur), Delphinium luteum (yellow San Clemente Island larkspur), Delphinium variegatum ssp. kinkiense (San Clemente Island larkspur), Dodecahema leptoceras (slender-horned spineflower), Dudleya setchellii (Santa Clara Valley dudleya), Dudleya traskiae (Santa Barbara Island liveforever), Eremalche kernensis (Kern mallow), Eriastrum densifolium ssp. sanctorum (Santa Ana River woolly-star), Eriodictyon altissimum (Indian Knob mountain balm), Eriodictyon capitatum (Lompoc yerba santa), Eriogonum apricum (incl. var. prostratum) (Ione (incl. Irish Hill) buckwheat), Eriogonum ovalifolium var. vineum (cushenbury buckwheat), Eriogonum ovalifolium var. williamsiae (steamboat buckwheat), Eriophyllum latilobum (San Mateo woolly sunflower), Eryngium aristulatum var. parishii (San Diego button-celery), Eryngium constancei (Loch Lomond coyote thistle), Erysimum capitatum var. angustatum (Contra Costa wallflower), Erysimum menziesii (Menzies' wallflower), Erysimum teretifolium (Ben Lomond wallflower), Fremontodendron californicum ssp. decumbens (Pine Hill flannelbush), Fremontodendron mexicanum (Mexican flannelbush), Galium buxifolium (island bedstraw), Galium californicum ssp. sierrae (El Dorado bedstraw), Gilia tenuiflora ssp. arenaria (Monterey gilia), Gilia tenuiflora ssp. hoffmannii (Hoffmann's slender-flowered gilia), Lasthenia burkei (Burke's goldfields), Lasthenia conjugens (Contra Costa goldfields), Layia carnosa (beach layia), Lesquerella kingii ssp. bernardina (San Bernardino Mountains bladderpod), Lessingia germanorum (=L.g. var. germanorum) (San Francisco lessingia), Lilium occidentale (Western lily), Lilium pardalinum ssp. pitkinense (Pitkin Marsh lily), Limnanthes floccosa ssp. californica (Butte County meadowfoam), Limnanthes vinculans (Sebastopol meadowfoam), Lithophragma maximum (San Clemente Island woodland-star), Lotus dendroideus ssp. traskiae (San Clemente Island broom), Lupinus nipomensis (Nipomo Mesa lupine), Lupinus tidestromii (clover lupine), Malacothamnus clementinus (San Clemente Island bush-mallow), Malacothamnus fasciculatus var. nesioticus (Santa Cruz Island bush-mallow), Malacothrix indecora (Santa Cruz Island malacothrix), Malacothrix squalida (island malacothrix), Monardella linoides ssp. viminea (willowy monardella), Monolopia (=Lembertia) congdonii (San Joaquin wooly-threads), Navarretia leucocephala ssp. pauciflora (=N. pauciflora) (few-flowered navarretia), Navarretia leucocephala ssp. plieantha (many-flowered navarretia), Nitrophila mohavensis (Amargosa niterwort), Oenothera avita ssp. eurekensis (Eureka Valley evening-primrose), Oenothera deltoides ssp. howellii (Antioch Dunes evening-primrose), Opuntia treleasei (Bakersfield cactus), Orcuttia californica (California orcutt grass), Orcuttia pilosa (hairy orcutt grass), Orcuttia viscida (Sacramento orcutt grass), Oxytheca parishii var. goodmaniana (cushenbury oxytheca), Parvisedum leiocarpum (Lake County stonecrop), Pentachaeta bellidiflora (white-rayed pentachaeta), Pentachaeta lyonii (Lyon's pentachaeta), Phacelia insularis ssp. insularis (island phacelia), Phlox hirsuta (Yreka phlox), Piperia yadonii (Yadon's piperia), Plagiobothrys strictus (Calistoga allocarya), Poa atropurpurea (San Bernardino bluegrass), Poa napensis (Napa bluegrass), Pogogyne abramsii (San Diego mesa-mint), Pogogyne nudiuscula (Otay mesa-mint), Polygonum hickmanii (Scotts Valley polygonum), Potentilla hickmanii (Hickman's potentilla), Pseudobahia bahiifolia (Hartweg's golden sunburst), Rorippa gambellii (Gambel's watercress), Sibara filifolia (Santa Cruz Island rockcress), Sidalcea keckii (Keck's checker-mallow), Sidalcea oregana ssp. valida (Kenwood Marsh checker-mallow), Sidalcea pedata (pedate checker-mallow), Streptanthus albidus ssp. albidus (Metcalf Canyon jewelflower), Streptanthus niger (Tiburon jewelflower), Suaeda californica (California seablite), Swallenia alexandrae (Eureka Dune grass), Taraxacum californicum (California taraxacum), Thelypodium stenopetalum (slender-petaled mustard), Thlaspi californicum (Kneeland Prairie penny-cress), Thysanocarpus conchuliferus (Santa Cruz Island fringepod), Trifolium amoenum (showy Indian clover), Trifolium trichocalyx (Monterey clover), Tuctoria greenei (Greene's tuctoria), and Tuctoria mucronata (Solano grass) in conjunction with recovery efforts throughout the range of the species in California and Nevada for the purpose of enhancing their survival and propagation.

We solicit public review and comment on this recovery permit application.

Dated: August 16, 2005.
Michael Fris,
Acting Manager, California/Nevada Operations Office, U.S. Fish and Wildlife Service.

[FR Doc. 05-17406 Filed 8-31-05; 8:45 am]

BILLING CODE 4310-55-P